DEPARTMENT OF LABOR

Employment and Training Administration

[TA-W-59,022]

Lithonia Lighting, Also Known as Peerless Lighting, a Subsidiary of Acuity Brands, Inc., Berkeley, CA; Notice of Termination of Investigation

Pursuant to section 221 of the Trade Act of 1974, as amended, an investigation was initiated on March 14, 2006 in response to a worker petition filed on behalf of workers of Lithonia Lighting, also known as Peerless Lighting, a subsidiary of Acuity Brands Lighting, Inc., Berkeley, California.

The petitioning group of workers is covered by an active certification, (TA-W-56,988) which expires on May 4, 2007. Consequently, further investigation in this case would serve no purpose, and the investigation has been terminated.

Signed at Washington, DC, this 29th day of March 2006.
Linda G. Poole,
Certifying Officer, Division of Trade Adjustment Assistance.

[FR Doc. E6-5375 Filed 4-11-06; 8:45 am]

BILLING CODE 4510-30-P